ENVIRONMENTAL PROTECTION AGENCY

[R01-OAR-2005-ME-0006; FRL-7962-5]

Adequacy Status of Submitted State Implementation Plans (SIP) for Transportation Conformity Purposes: 5 Percent Increment of Progress Motor Vehicle Emissions Budgets for the Portland Maine 8-Hour Ozone Nonattainment Area

AGENCY: Environmental Protection Agency (EPA).

ACTION: Notice of adequacy determination.

SUMMARY: In this action, EPA is notifying the public that we have found the on-road motor vehicle emissions budgets contained in the Portland Maine marginal 8-hour ozone nonattainment area 5 Percent Increment of Progress SIP adequate for transportation conformity purposes. As a result of our finding, the motor vehicle emissions budgets from the submitted SIP revision must be used for future conformity determinations in the Portland Maine area.

DATES: These motor vehicle emissions budgets are effective September 14, 2005.

FOR FURTHER INFORMATION CONTACT: The essential information in this notice will be available at EPA's conformity Web site: http://www.epa.gov/oms/transp/conform/adequacy.htm. You may also contact Mr. Donald O. Cooke, Air Quality Unit, U.S. Environmental Protection Agency, EPA New England Regional Office, One Congress Street, Suite 1100 (CAQ), Boston, MA 02114-2023, telephone number (617) 918-1668, fax number (617) 918-0668, e-mail cooke.donald@epa.gov.

SUPPLEMENTARY INFORMATION: By letters dated June 9, 13 and 14, 2005, the Maine Department of Environmental Protection (ME DEP) submitted to EPA its State Implementation Plan Revision for Portland Maine's 15 Percent Rate of Progress Plan; 5 Percent Increment of Progress Plan; Motor Vehicle Emissions Budget; and 2002 Base Year Emission Inventory. As the 1-hour ozone standard was revoked on June 15, 2005, and the Portland Maine 1-hour ozone nonattainment area covers a different geographic area than the Portland Maine 8-hour ozone nonattainment area, EPA has not taking action to determine the adequacy of the 1-hour motor vehicle emission budgets, nor is EPA approving the 1-hour budgets for conformity purposes. The 2007 volatile organic compounds (VOC) and nitrogen oxides (NOX) motor vehicle emissions budgets associated with the Portland Maine 8-hour ozone 5 Percent Increment of Progress SIP are 20.115 tons per summer weekday of VOC and 39.893 tons per summer weekday of NOX. These 2007 budgets cover Sagadahoc County and portions of York, Cumberland, and Androscoggin Counties. On July 12, 2005, the availability of these budgets was posted on EPA's website for the purpose of soliciting public comments. The comment period closed on August 11, 2005, and EPA received no comments.

Today's notice is simply an announcement of a finding that we have already made. EPA New England sent a letter to Maine Department of Environmental Protection on August 12, 2005, finding that the 2007 MOBILE6.2 motor vehicle emissions budgets for the Portland Maine 8-hour ozone nonattainment area are adequate and must be used for transportation conformity determinations.

Transportation conformity is required by section 176(c) of the Clean Air Act. EPA's conformity rule, 40 CFR part 93, requires that transportation plans, programs, and projects conform to state air quality implementation plans and establishes the criteria and procedures for determining whether or not they do. Conformity to a SIP means that transportation activities will not produce new air quality violations, worsen existing violations, or delay timely attainment of the national ambient air quality standards. The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

List of Subjects in 40 CFR Part 52

Environmental protection, Air pollution control, Intergovernmental relations, Nitrogen dioxide, Ozone, Reporting and recordkeeping requirements, Volatile organic compounds.

Authority: 42 U.S.C. 7401 et seq.

Dated: August 20, 2005.
Robert W. Varney,
Regional Administrator, EPA New England.

[FR Doc. 05-17202 Filed 8-29-05; 8:45 am]

BILLING CODE 6560-50-P